DEPARTMENT OF TRANSPORTATION

Federal Aviation Administration

14 CFR Part 65

[Docket No. FAA-2001-11133; Amdt. 65-45]

RIN 2120-AH19

Certification of Aircraft and Airmen for the Operation of Light-Sport Aircraft; Correction

AGENCY: Federal Aviation Administration (FAA), DOT.

ACTION: Final rule; correction.

SUMMARY: This document corrects information regarding the training course design for the repairman certificate (light-sport aircraft) discussed in the preamble of the final rule, “Certification of Aircraft and Airmen for the Operation of Light-Sport Aircraft,” published in the Federal Register of July 27, 2004. The regulatory text addressing this matter was correct and no correction to that text is required.

DATES: The final rule published at 69 FR 44772 (July 27, 2004) was effective September 1, 2004.

FOR FURTHER INFORMATION CONTACT: Michael W. Brown, Certification and General Aviation Operations Branch Manager (AFS-810), 202-267-8212.

Correction

In final rule FR Doc. 04-16577, beginning on page 44772 in the Federal Register of July 27, 2004, make the following correction to the preamble discussion of § 65.107 Repairman certificate (light-sport aircraft): Eligibility, privileges and limits:

On page 44849, in the third column, in the 22nd line, the words “performs a task with supervision” should have read, “performs a task without supervision.”

Issued in Washington, DC, on May 20, 2005.
Rebecca B. MacPherson,
Assistant Chief Counsel, Regulations Division.

[FR Doc. 05-10596 Filed 5-26-05; 8:45 am]

BILLING CODE 4910-13-P